FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) amends its Appliance Labeling Rule by publishing new ranges of comparability to be used on required labels for refrigerators, refrigerator-freezers, and freezers. The Commission is also making minor, corrective amendments to the portions of Appendices H (Cooling Performance and Cost for Central Air Conditioners) and I (Heating Performance and Cost for Central Air Conditioners) to Part 305 that contain cost calculation formulas.

EFFECTIVE DATE: February 19, 2002.

FOR FURTHER INFORMATION CONTACT: Hampton Newsome, Attorney, Division of Enforcement, Federal Trade Commission, Washington, DC 20580 (202-326-2889); hnewsome@ftc.gov.

SUPPLEMENTARY INFORMATION: The Appliance Labeling Rule was issued by the Commission in 1979, 44 FR 66466 (Nov. 19, 1979), in response to a directive in the Energy Policy and Conservation Act of 1975.¹ The Rule covers eight categories of major household appliances: Refrigerators and refrigerator-freezers, freezers, dishwashers, clothes washers, water heaters (this category includes storage-type water heaters, gas-fired instantaneous water heaters, and heat pump water heaters), room air conditioners, furnaces (this category includes boilers), and central air conditioners (this category includes heat pumps). The Rule also covers pool heaters, 59 FR 49556 (Sept. 28, 1994), and contains requirements that pertain to fluorescent lamp ballasts, 54 FR 28031 (July 5, 1989), certain plumbing products, 58 FR 54955 (Oct. 25, 1993), and certain lighting products, 59 FR 25176 (May 13, 1994, eff. May 15, 1995).

¹ 42 U.S.C. 6294. The statute also requires the Department of Energy (DOE) to develop test procedures that measure how much energy the appliances use, and to determine the representative average cost a consumer pays for the different types of energy available.

The Rule requires manufacturers of all covered appliances and pool heaters to disclose specific energy consumption or efficiency information (derived from the DOE test procedures) at the point of sale in the form of an “EnergyGuide” label and in catalogs. It also requires manufacturers of furnaces, central air conditioners, and heat pumps either to provide fact sheets showing additional cost information, or to be listed in an industry directory showing the cost information for their products. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

Section 305.8(b) of the Rule requires manufacturers, after filing an initial report, to report certain information annually to the Commission by specified dates for each product type.² These reports, which are to assist the Commission in preparing the ranges of comparability, contain the estimated annual energy consumption or energy efficiency ratings for the appliances derived from tests performed pursuant to the DOE test procedures. Because manufacturers regularly add new models to their lines, improve existing models, and drop others, the data base from which the ranges of comparability are calculated is constantly changing. To keep the required information consistent with these changes, under section 305.10 of the Rule, the Commission will publish new ranges if an analysis of the new information indicates that the upper or lower limits of the ranges have changed by more than 15%. Otherwise, the Commission will publish a statement that the prior ranges remain in effect for the next year.

² Reports for refrigerators, refrigerator-freezers, and freezers are due August 1.

New Ranges of Comparability for Refrigerators, Refrigerator-Freezers, and Freezers

The Commission has analyzed 2001 submissions of data for refrigerators, refrigerator-freezers, and freezers. Analysis of the submission indicates that the ranges for these products have changed significantly.³ Therefore, the Commission is publishing new ranges of comparability for refrigerators, refrigerator-freezers, and freezers. Today's publication of the new ranges for refrigerators, refrigerator-freezers, and freezers also means that, after February 19, 2002, manufacturers of these products must calculate the operating cost figures at the bottom of labels for the products using the 2001 cost for electricity (8.29 cents per kilowatt-hour).

³ New DOE energy conservation standards for these products became effective on July 1, 2001. 62 FR 23102 (April 28, 1987).

Minor Amendments to Appendices H and I

The Commission is also amending the cost calculation formulas appearing in the Appendices (H and I) to part 305 that contain, for central air conditioners and heat pumps, heating and cooling performance costs and the ranges of comparability. These formulas must be provided on fact sheets and in directories so consumers can calculate their own costs of operation for the central air conditioners and heat pumps that they are considering purchasing. This amendment corrects some of the figures in the formulas to reflect the current Representative Average Unit Cost of Electricity—8.29 cents per kilowatt-hour—that was published by DOE on March 8, 2001 (66 FR 13917), and by the Commission on May 21, 2001 (66 FR 27856).

Regulatory Flexibility Act

The provisions of the Regulatory Flexibility Act relating to a Regulatory Flexibility Act analysis (5 U.S.C. 603-604) are not applicable to this proceeding because the amendments do not impose any new obligations on entities regulated by the Appliance Labeling Rule. Thus, the amendments will not have a “significant economic impact on a substantial number of small entities.” 5 U.S.C. 605. The Commission has concluded, therefore, that a regulatory flexibility analysis is not necessary, and certifies, under section 605 of the Regulatory Flexibility Act (5 U.S.C. 605(b)), that the amendments announced today will not have a significant economic impact on a substantial number of small entities.

List of Subjects in 16 CFR Part 305

Advertising, Energy conservation, Household applicances, Labeling Reporting and recordkeeping requirements.

1. The authority citation for part 305 continues to read as follows:

Authority: 42 U.S.C. 6249.

2. Appendix A1 to part 305 is revised to read as follows:

Appendix A1 to Part 305.—Refrigerators With Automatic Defrost
[Range Information]
Manufacturer's rated total refrigerated volume in cubic feet | Range of estimated annual energy consumption (kWh/yr.): Low | Range of estimated annual energy consumption (kWh/yr.): High
Less than 2.5 | 318 | 338
2.5 to 4.4 | 319 | 385
4.5 to 6.4 | 383 | 436
6.5 to 8.4 | (*) | (*)
8.5 to 10.4 | 348 | 380
10.5 to 12.4 | (*) | (*)
12.5 to 14.4 | (*) | (*)
14.5 to 16.4 | 428 | 428
16.5 and over | 318 | 438
* No data submitted for units meeting the Department of Energy's Energy Conservation Standards effective July 1, 2001.

3. Appendix A2 to part 305 is revised to read as follows:

Appendix A2 to Part 305.—Refrigerators With Automatic Defrost
[Range Information]
Manufacturer's rated total refrigerated volume in cubic feet | Range of estimated annual energy consumption (kWh/yr.): Low | Range of estimated annual energy consumption (kWh/yr.): High
Less than 2.5 | 280 | 320
2.5 to 4.4 | 292 | 345
4.5 to 6.4 | 296 | 364
6.5 to 8.4 | 387 | 387
8.5 to 10.4 | 273 | 379
10.5 to 12.4 | 286 | 286
12.5 to 14.4 | (*) | (*)
14.5 to 16.4 | (*) | (*)
16.5 to 18.4 | (396) | (438)
18.5 to 20.4 | (*) | (*)
20.5 to 22.4 | (*) | (*)
22.5 to 24.4 | (*) | (*)
24.5 to 26.4 | (*) | (*)
26.5 to 28.4 | (*) | (*)
28.5 and over | (*) | (*)
* No data submitted for units meeting the Department of Energy's Energy Conservation Standards effective July 1, 2001.

4. Appendix A3 to part 305 is revised to read as follows:

Appendix A3 to Part 305—Refrigerator-Freezers With Partial Automatic Defrost
Range Information
Manufacturer's rated total refrigerated volume in cubic feet | Range of estimated annual energy consumption (kWh/yr.): Low | Range of estimated annual energy consumption (kWh/yr.): High
Less than 10.5 | 285 | 434
10.5 to 12.4 | 313 | 313
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)
(*) No data submitted for units meeting the Department of Energy's Energy Conservation Standards effective July 1, 2001.

5. Appendix A4 to part 305 is revised to read as follows:

Appendix A4 to Part 305—Refrigerator-Freezers With Automatic Defrost With Top-Mounted Freezer Without Through-the-Door Ice Service
Range Information
Manufacturer's rated total refrigerated volume in cubic feet | Range of estimated annual energy consumption (kWh/yr.): Low | Range of estimated annual energy consumption (kWh/yr.): High
Less than 10.5 | 356 | 356
10.5 to 12.4 | 408 | 409
12.5 to 14.4 | 394 | 440
14.5 to 16.4 | 372 | 460
16.5 to 18.4 | 414 | 489
18.5 to 20.4 | 416 | 509
20.5 to 22.4 | 457 | 530
22.5 to 24.4 | 499 | 558
24.5 to 26.4 | 523 | 560
26.5 to 28.4 | (*) | (*)
28.5 and over | (*) | (*)
(*) No data submitted for units meeting the Department of Energy's Energy Conservation Standards effective July 1, 2001.

6. Appendix A5 to part 305 is revised to read as follows:

Appendix A5 to Part 305—Refrigerator-Freezers With Automatic Defrost With Side-Mounted Freezer Without Through-the-Door Ice Service
Range Information
Manufacturer's rated total refrigerated volume in cubic feet | Range of estimated annual energy consumption (kWh/yr.): Low | Range of estimated annual energy consumption (kWh/yr.): High
Less than 10.5 | (*) | (*)
10.5 to 12.4 | (*) | (*)
12.5 to 14.4 | (*) | (*)
14.5 to 16.4 | (*) | (*)
16.5 to 18.4 | (*) | (*)
18.5 to 20.4 | 623 | 624
20.5 to 22.4 | 568 | 640
22.5 to 24.4 | 605 | 643
24.5 to 26.4 | 591 | 659
26.5 to 28.4 | (*) | (*)
28.5 and over | 614 | 679
(*) No data submitted for units meeting the Department of Energy's Energy Conservation Standards effective July 1, 2001.

7. Appendix A6 to part 305 is revised to read as follows:

Appendix A6 to Part 305—Refrigerator-Freezers With Automatic Defrost With Bottom-Mounted Freezer Without Through-the-Door Ice Service
Range Information
Manufacturer's rated total refrigerated volume in cubic feet | Range of estimated annual energy consumption (kWh/yr.): Low | Range of estimated annual energy consumption (kWh/yr.): High
Less than 10.5 | 447 | 500
10.5 to 12.4 | (*) | (*)
12.5 to 14.4 | (*) | (*)
14.5 to 16.4 | 544 | 544
16.5 to 18.4 | 502 | 548
18.5 to 20.4 | 564 | 564
20.5 to 22.4 | 511 | 572
22.5 to 24.4 | (*) | (*)
24.5 to 26.4 | (*) | (*)
26.5 to 28.4 | (*) | (*)
28.5 and over | (*) | (*)
(*) No data submitted for units meeting the Department of Energy's Energy Conservation Standards effective July 1, 2001.

8. Appendix A7 to part 305 is revised to read as follows:

Appendix A7 to Part 305.—Refrigerator-freezers With Automatic Defrost With Top-mounted Freezer With Through-the-door Ice Service
[Range Information]
Manufacturer's rated total refrigerated volume in cubic feet | Range of estimated annual energy consumption (kWh/yr.): Low | Range of estimated annual energy consumption (kWh/yr.): High
Less than 10.5 | (*) | (*)
10.5 to 12.4 | 544 | 544
12.5 to 14.4 | 544 | 544
14.5 to 16.4 | (*) | (*)
16.5 to 18.4 | (*) | (*)
18.5 to 20.4 | (*) | (*)
20.5 to 22.4 | 555 | 555
22.5 to 24.4 | (*) | (*)
24.5 to 26.4 | (*) | (*)
26.5 to 28.4 | (*) | (*)
28.5 and over | (*) | (*)
* No data submitted for units meeting the Department of Energy's Energy Conservation Standards effectively July 1, 2001.

Appendix A8 to Part 305.—Refrigerator-freezers With Automatic Defrost With Side-mounted Freezer With Through-the-door Ice Service
[Range Information]
Manufacturer's rated total refrigerated volume in cubic feet | Range of estimated annual energy consumption (kWh.yr.): Low | Range of estimated annual energy consumption (kWh.yr.): High
Less than 10.5 | (*) | (*)
10.5 to 12.4 | (*) | (*)
12.5 to 14.4 | (*) | (*)
14.5 to 16.4 | (*) | (*)
16.5 to 18.4 | (*) | (*)
18.5 to 20.4 | 647 | 650
20.5 to 22.4 | 597 | 686
22.5 to 24.4 | 617 | 698
24.5 to 26.4 | 618 | 727
26.5 to 28.4 | 647 | 751
28.5 and over | 691 | 765
* No data submitted for units meeting the Department of Energy's Energy Conservation Standards effective July 1, 2001.

Cost Information for Appendices A1 Through A8

When the ranges of comparability in Appendices A1 through A8 are used on EnergyGuide labels for refrigerators and refrigerator-freezers, the estimated annual operating cost disclosure appearing in the box at the bottom of the labels must be derived using the 2001 Representative Average Unit Cost for electricity (8.29¢ per kilowatt-hour), and the text below the box must identify the cost as such.

10. Appendix B1 to part 305 is revised to read as follows:

Appendix B1 to Part 305.—Upright Freezers With Manual Defrost
[Range Information]
Manufacturer's rated total refrigerated volume in cubic feet | Range of estimated annual energy consumption (kWh/yr.): Low | Range of estimated annual energy consumption (kWh/yr.): High
Less than 5.5 | (*) | (*)
5.5 to 7.4 | 354 | 354
7.5 to 9.4 | 372 | 372
9.5 to 11.4 | 392 | 392
11.5 to 13.4 | 409 | 410
13.5 to 15.4 | 442 | 442
15.5 to 17.4 | 477 | 482
17.5 to 19.4 | (*) | (*)
19.5 to 21.4 | 512 | 527
21.5 to 23.4 | (*) | (*)
23.5 to 25.4 | 580 | 580
25.5 to 27.4 | (*) | (*)
27.5 to 29.4 | (*) | (*)
29.5 and over | 1,748 | 1,748
* No data submitted for units meeting the Department of Energy's Energy Conservation Standards effective July 1, 2001.

11. Appendix B2 to part 305 is revised to read as follows:

Appendix B2 to Part 305.—Upright Freezers With Automatic Defrost
[Range Information]
Manufacturer's rated total refrigerated volume in cubic feet | Range of estimated annual energy consumption (kWh/yr.): Low | Range of estimated annual energy consumption (kWh/yr.): High
Less than 5.5 | 482 | 491
5.5 to 7.4 | (*) | (*)
7.5 to 9.4 | (*) | (*)
9.5 to 11.4 | 564 | 564
11.5 to 13.4 | (*) | (*)
13.5 to 15.4 | 621 | 655
15.5 to 17.4 | 682 | 683
17.5 to 19.4 | 742 | 742
19.5 to 21.4 | 745 | 763
21.5 to 23.4 | 796 | 796
23.5 to 25.4 | (*) | (*)
25.5 to 27.4 | (*) | (*)
27.5 to 29.4 | (*) | (*)
29.5 and over | 2,003 | 2,033
* No data submitted for units meeting the Department of Energy's Energy Conservation Standards effective July 1, 2001.

12. Appendix B3 to part 305 is revised to read as follows:

Appendix B3 to Part 305.—Chest Freezers and All Other Freezers
[Range Information]
Manufacturer's rated total refrigerated volume in cubic feet | Range of estimated annual energy consumption (kWh/yr.): Low | Range of estimated annual energy consumption (kWh/yr.): High
Less than 5.5 | 166 | 245
5.5 to 7.4 | 276 | 280
7.5 to 9.4 | 294 | 294
9.5 to 11.4 | 312 | 312
11.5 to 13.4 | 350 | 362
13.5 to 15.4 | 394 | 397
15.5 to 17.4 | (*) | (*)
17.5 to 19.4 | 445 | 445
19.5 to 21.4 | 480 | 480
21.5 to 23.4 | 512 | 532
23.5 to 25.4 | 569 | 570
25.5 to 27.4 | (*) | (*)
27.5 to 29.4 | (*) | (*)
29.5 and over | (*) | (*)
* No data submitted for units meeting the Department of Energy's Energy Conservation Standards effective July 1, 2001.

Cost Information for Appendices B1 Through B3

When the ranges of comparability in Appendices B1 through B3 are used on EnergyGuide labels for freezers, the estimated annual operating cost disclosure appearing in the box at the bottom of the labels must be derived using the 2001 Representative Average Unit Cost for electricity (8.29¢ per kilowatt-hour), and the text below the box must identify the cost as such.

13. In section 2 of Appendix H of Part 305, the formula is revised to read as follows in both places that it appears:

Appendix H to Part 305_Cooling Performance and Cost for Central Air Conditioners

* * * * *

* * * * *

14. In section 2 of Appendix I of Part 305, the “NOTE” following the EnergyGuide label is amended by removing the figure “8.31¢” and by adding, in its place, the figure “8.29¢”. In addition, the formula in section 2 of Appendix I of Part 305 is revised to read as follows in both places that it appears:

Appendix I to Part 305—Heating Performance and Cost For Central Air Conditioners

* * * * *

* * * * *

By direction of the Commission.
Donald S. Clark,
Secretary.

[FR Doc. 01-28438 Filed 11-16-01; 8:45 am]

BILLING CODE 6750-01-M